ENVIRONMENTAL PROTECTION AGENCY

[AD-FRL-7004-6]

New Source Review (NSR) 90-day Review and Report to the President

AGENCY: Environmental Protection Agency (EPA).

ACTION: Notice of availability and opportunity to comment.

SUMMARY: This notice announces the availability of, and opportunity to comment on, a background paper that will be used in the development of EPA's Report to the President on the impact of the Environmental Protection Agency's New Source Review (NSR) program on investment in new utility and refinery generation capacity, energy efficiency, and environmental protection. The National Energy Policy Development Group, under the direction of Vice President Richard Cheney, has directed EPA, in consultation with the Secretary of Energy and other relevant agencies, to review NSR regulations, including administrative interpretation and implementation, and prepare this Report to the President within 90 days. The Report to the President is scheduled to be released in August. The background paper summarizes the data that EPA has found thus far addressing the topics that are covered by the NEPD Group's recommendation. The background paper is not a draft of the Report to the President, but is intended to facilitate public comment on issues that may be addressed in that report.

The EPA is now accepting comments on this background paper and other information relevant to the NSR Review and Report to the President. Because the Report to the President is scheduled to be completed in August, commenters are encouraged to submit information as early as possible.

DATES: Comments will be accepted until July 27, 2001.

ADDRESSES: Docket No. A-2001-19 contains the background paper and additional supporting information that EPA relied upon in developing the background paper. Material in the docket is available for public inspection and copying between 8:00 a.m. and 5:30 p.m., Monday through Friday, at the Air and Radiation Docket and Information Center, U.S. Environmental Protection Agency, 401 M Street, SW, Washington, DC 20460, telephone (202) 260-7548, fax (202) 260-4000. The docket is available at the above address in Room M-1500, Waterside Mall (ground floor, central mall). A reasonable fee may be charged for copying. The background paper is also available on the Internet at the following address: http://www.epa.gov/air/NSR-review.

Comments and additional information may be provided in writing to the address provided above for the Air and Radiation Docket and Information Center, or may be faxed to the Docket at (202) 260-4000. Information may also be submitted by electronic mail (e-mail) to: a-and-r-docket@epa.gov. Electronic comments must be submitted as an ASCII file to avoid the use of special characters and encryption problems or on disks in WordPerfect version 5.1, 6.1 or Corel 9 file format. All comments and data submitted in any form must note the docket number: A-2001-19.

FOR FURTHER INFORMATION CONTACT: Mr. Michael Ling, Information Transfer and Program Integration Division (MD-12), U.S. EPA, Research Triangle Park, North Carolina 27711, (919) 541-4729, e-mail: ling.michael@epa.gov.

SUPPLEMENTARY INFORMATION: In its May 2001 report, the energy task force headed by Vice President Cheney recommended that “the Administrator of the EPA, in consultation with the Secretary of Energy and other relevant agencies, review the New Source Review regulations, including administrative interpretation and implementation, and report to the President within 90 days on the impact of the regulations on investment in new utility and refinery generation capacity, energy efficiency, and environmental protection.”

New Source Review is a program that was first incorporated into the Clean Air Act in 1977. It requires that a source of air pollution install the best pollution control equipment when it is built or when it makes a major modification that increases emissions. NSR has been an important part of EPA's efforts to protect air quality. At the same time, it is widely recognized that the NSR program is overly complex and burdensome both for affected companies and for the state and local agencies that are responsible for implementing it. For several years, EPA has been exploring options designed to simplify the program, reduce the length of the review process, and remove any barriers it may pose to innovation and improved energy efficiency.

Consistent with the Report, EPA has undertaken a 90-day review of NSR to determine if changes should be made to help the program work more efficiently while still maintaining environmental safeguards. In particular, the Agency will study the impact of NSR regulations on investment in new utility and refinery capacity, energy efficiency, and pollution emissions.

The final report, which is scheduled to be submitted to the President on August 17, will summarize NSR data related to the electricity generating and petroleum refining industries, and examine whether NSR, including enforcement cases filed against those industries, have had a negative impact on investments in new capacity. The report will also include recommendations on how to improve NSR and minimize any adverse impacts on the energy industry.

EPA is conducting this review in close cooperation and consultation with the Department of Energy, the Department of the Interior, the Office of Management and Budget, the White House Council on Environmental Quality, and the National Economic Council.

In addition to today's notice of availability and opportunity to submit comments on the background paper, the Agency is taking additional steps to seek input from the public and from affected stakeholders. We will hold several public meetings across the U.S. to collect information and public views on NSR. Information about these meetings will be published separately in the Federal Register, and will be available on the Internet at http://www.epa.gov/air/NSR-review. We will also hold separate meetings with outside stakeholders, including affected industries, environmental groups, and state and local governments.

Dated: June 22, 2001.
Linda Fisher,
Deputy Administrator.

[FR Doc. 01-16267 Filed 6-26-01; 8:45 am]

BILLING CODE 6560-50-P